DEPARTMENT OF STATE

[Public Notice 5477]

Determination Pursuant to Section 1(b) of Executive Order 13224 Relating to the Designation of Abu Sufian al-Salamabi Muhammad Ahmed ’Abd Al-Razziq, Also Known as Abousofian Salman Abdelrazik, Also Known as Jolaiba, Also Known as Abousofian Abdelrazik, Also Known as Abousofiane Abdelrazik, Also Known as Abu Sufian, Also Known as Abou El Layth, Also Known as Abou Lail, Citizenship: Canada; Canadian Passport #: BC166787; DPOB: August 6, 1962, Al-Bawgah, Sudan

Acting under the authority of Section 1(b) of Executive Order 13224 of September 23, 2001, as amended by Executive Order 13286 of July 2, 2002, and Executive Order 13284 of January 23, 2003, and Executive Order 13372 of February 16, 2005 in consultation with the Secretary of the Treasury, the Attorney General, and the Secretary of Homeland Security, I hereby determine that Abu Sufian al-Salamabi Muhammad Ahmed 'Abd Al-Razziq, also known Abousofian Salman Abdelrazik, also known as Jolaiba, also known as Abousofian Abdelrazik, also known as Abousofiane Abdelrazik, also known as Abu Sufian, also known as Abou El Layth, also known as Abou Lail, poses a significant risk of committing acts of terrorism that threaten the security of U.S. nationals and the national security, foreign policy, or economy of the United States.

Consistent with the determination in Section 10 of Executive Order 13224 that “prior notice to persons determined to be subject to the Order who might have a constitutional presence in the United States would render ineffectual the blocking and other measures authorized in the Order because of the ability to transfer funds instantaneously,” I determine that no prior notice need be provided to any person subject to this determination who might have a constitutional presence in the United States because to do so would render ineffectual the measures authorized in the Order.

This notice shall be published in the Federal Register.

Dated: July 21, 2006.
R. Nicholas Burns,
Undersecretary of State, Department of State.

[FR Doc. 06-6541 Filed 7-27-06; 5:00 pm]

BILLING CODE 4710-10-P